DEPARTMENT OF TRANSPORTATION

Federal Motor Carrier Safety Administration

[Docket No. FMCSA-2018-0004]

Agency Information Collection Activities; Renewal of a Currently Approved Information Collection Request: Application for Certificate of Registration for Foreign Motor Carriers and Foreign Motor Private Carriers

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval. The FMCSA requests to renew the ICR titled, “Application for Certificate of Registration for Foreign Motor Carriers and Foreign Motor Private Carriers,” that requires foreign (Mexico-based) for-hire and private motor carriers to file an application Form OP-2 if they wish to register to transport property only within municipalities in the United States on the U.S.-Mexico international borders or within the commercial zones of such municipalities. FMCSA invites public comment on the ICR. There were no comments received to the 60-day Federal Register notice dated April 9, 2018.

DATES: Please send your comments by October 17, 2018. OMB must receive your comments by this date in order to act quickly on the ICR.

ADDRESSES: All comments should reference Federal Docket Management System (FDMS) Docket Number FMCSA-2018-0004. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Ms. Fiorella Herrera, Transportation Specialist, Office of Registration and Safety Information, Customer Service and Vetting Division, Department of Transportation, Federal Motor Carrier Safety Administration, 6th Floor, West Building, 1200 New Jersey Avenue SE, Washington, DC 20590-0001. Telephone: 202-366-0376; Email Address: fiorella.herrera@dot.gov. Office hours are from 9 a.m. to 5 p.m., Monday through Friday, except Federal Holidays.

SUPPLEMENTARY INFORMATION:

Title: Application for Certificate of Registration for Foreign Motor Carriers and Foreign Motor Private Carriers.

OMB Control Number: 2126-0019.

Type of Request: Renewal of information collection.

Respondents: Foreign motor carriers and commercial motor vehicle drivers.

Estimated Number of Respondents: 527.

Estimated Time per Response: 4 hours.

Expiration Date: October 31, 2018.

Frequency of Response: Occasionally.

Estimated Total Annual Burden: 2,108 hours [527 responses × 4 hours].

Background: Title 49 U.S.C. 13902(c) contains basic licensing procedures for registering foreign (Mexico-based) motor carriers to operate across the U.S.-Mexico international border into the United States. 49 CFR part 368 contains the regulations that require foreign (Mexico-based) motor carriers to apply to the FMCSA for a Certificate of Registration to provide interstate transportation in municipalities in the United States on the U.S.-Mexico international border or within the commercial zones of such municipalities as defined in 49 U.S.C. 13902(c)(4)(A). FMCSA carries out this registration program under authority delegated by the Secretary of Transportation. Foreign (Mexico-based) motor carriers use Form OP-2 to apply for Certificate of Registration authority at the FMCSA. The form requests information on the foreign motor carrier's name, address, U.S. DOT Number, form of business (e.g., corporation, sole proprietorship, partnership), locations where the applicant plans to operate, types of registration requested (e.g., for-hire motor carrier, motor private carrier), insurance, safety certifications, household goods arbitration certifications, and compliance certifications.

On April 9, 2018, FMCSA published a 60-day Federal Register notice (83 FR 15222). Upon further review, FMCSA revised the number of estimated annual respondents, responses, burden hours, and burden hour costs due to a correction in the total number of applications filed between 2015-2017 which did not account for the fact the $300 fee applies only to new registrations; and the addition of the costs associated with submitting updates by mail, which is not included in the currently approved estimate. The estimated number of annual respondents and responses increased from 380 to 527, resulting in an increase of annual burden hours from 1,520 (380 respondents × 4 hours) to 2,108 (527 × 4 hours), and an increase in burden hour costs from $63,339 to $87,925. The $30,235 increase in estimated costs to respondents ($144,235 proposed—$114,000 currently approved) is due to an adjustment in the estimated number of respondents filing for a new registration. The increase is also due to a correction in the method of cost calculations which was not applied to the currently approved estimate, where the $300 fee applies only to new registrations. The increase is also due to the addition of the costs associated with submitting updates by mail, which was also not included in the currently approved estimate.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on: September 12, 2018.
G. Kelly Regal,
Associate Administrator for Office of Research and Information Technology.

[FR Doc. 2018-20158 Filed 9-14-18; 8:45 am]

BILLING CODE 4910-EX-P